CORPORATION FOR NATIONAL AND COMMUNITY SERVICE

Submission for OMB Emergency Review

AGENCY: Corporation for National and Community Service.

ACTION: Notice.

SUMMARY: The Corporation for National and Community Service (hereinafter the “Corporation”), has submitted the following information collection request (ICR) utilizing emergency review procedures, to the Office of Management and Budget (OMB) for review and clearance in accordance with the Paperwork Reduction Act of 1995 (Pub. L. 104-13, 44 U.S.C. Chapter 35). The Corporation requested that OMB review and approve its emergency request by February 11, 2004, for a period of six (6) months. A copy of this ICR, with applicable supporting documentation, may be obtained by contacting the Corporation for National and Community Service, Ms. Shelly Ryan, (202) 606-5000, Ext. 549, or by e-mail at sryan@cns.gov.

Type of Review: Emergency request.

Agency: Corporation for National and Community Service.

Title: Peer Reviewer Application.

OMB Number: None.

Agency Number: None.

Affected Public: Citizens of the United States.

Total Respondents: 10,000.

Frequency: One time.

Average Time Per Response: 45 minutes.

Estimated Total Burden Hours: 7,500 hours.

Total Burden Cost (capital/startup): None.

Total Burden Cost (operating/maintenance): None.

Description: The Corporation advertises grant competitions in AmeriCorps, Learn and Serve America, and Senior Corps. As part of its review process, the Corporation uses peer reviewers to determine the quality of the applications we receive.

The information collected will be used by the Corporation to select peer reviewers for each grant competition. All individuals interested in applying as peer reviewers or facilitators of the peer review panels will be required to complete a short electronic survey. Those selected as a peer reviewer will be required to complete part two of the electronic application.

Because the recently enacted budget calls for a major increase in AmeriCorps funding, the Corporation must immediately find a large number of peer reviewers to assist in peer reviews beginning in March, 2004. Therefore, there was not enough time for an initial public comment period prior to submitting this request to OMB. However, if OMB approves the emergency request for six (6) months, the Corporation will issue another Notice that will afford the public 60-days to provide its comments.

Dated: February 6, 2004.
Marlene Zakai,
Senior Policy Advisor on Grants Management.

[FR Doc. 04-3073 Filed 2-11-04; 8:45 am]

BILLING CODE 6050-$$-P